DEPARTMENT OF AGRICULTURE

Forest Service

Tonka Timber Sale Project Environmental Impact Statement

AGENCY: Forest Service, USDA.

ACTION: Notice of intent to prepare an Environmental Impact Statement.

SUMMARY: The Department of Agriculture, Forest Service, will prepare an Environmental Impact Statement (EIS) on a proposal to harvest timber for the Tonka Timber Sale EIS on the Lindenberg Peninsula, Kupreanof Island, on the Petersburg Ranger District, Tongass National Forest. The proposed action is to harvest approximately 60 million board feet (mmbf) of timber from about 3,500 acres of forested land. An estimated 11 miles of new road is associated with this proposed action. A range of alternatives, responsive to significant issues, will be developed and will include a no action alternative. The existing marine access facility, (MAF) located along the eastern shore of Lindenberg Peninsula, in the Wrangell Narrows, would be used and further development of the MAF is included in the proposed action. This development would facilitate the transport and scaling of logs for this proposed project and future long-term production of young-growth from the project area. This project is within the MitkofYKupreanof biogeographic province. The Record of Decision will disclose whether and where the Forest Supervisor has decided to provide timber harvest units, roads and associated timber harvesting facilities.

DATES: A scoping letter will be mailed out in December 2008. Individuals who want to receive a copy of this mailing or who want to be on the project mailing list should contact the Petersburg Ranger District at the address below. The Draft Environmental Impact Statement is projected to be filed with the Environmental Protection Agency (EPA) in the summer of 2009 and will begin a 45-day public comment period. The Final Environmental Impact Statement and Record of Decision are scheduled to be published the spring of 2010.

ADDRESSES: You may comment on the project in the following ways: Send written comments to the Petersburg Ranger District, Tongass National Forest, Attn: Ben Case Tonka Timber Sale Project EIS, P.O. Box 1328, Petersburg, AK 99833, or hand deliver them to the Petersburg Ranger District, 12 N Nordic Drive, Petersburg, Alaska. The FAX number is (907) 772-5995. Send e-mail comments to: comments-alaska-tongass-petersburg@fs.fed.us with Tonka Timber Sale Project EIS in the subject line. Include your name, address and organization name if you are commenting as a representative.

FOR FURTHER INFORMATION CONTACT: Questions about the proposal and ElS should be directed to Christopher Savage, District Ranger, Petersburg Ranger District, Tongass National Forest, P.O. Box 1328, Petersburg, AK 99833, telephone (907) 772-3871, or Ben Case, Team Leader, Petersburg Ranger District, P.O. Box 1328, Petersburg, AK 99833, telephone (907) 772-3871.

SUPPLEMENTARY INFORMATION:

Background: The proposed Tonka Timber Sale Project Area is approximately 62,150 acres and falls within the Tongass Land Management Value Comparison Units (VCUs) 4370, 4390 and 4470. These VCUs and the Tonka Project Area are entirely within the Phase 1 Adaptive Management Strategy area of the 2008 Forest Plan. The project area is within Townships 58, 59, 60 and 61 South, and Ranges 77, 78, and 79 East, Copper River Meridian. The area is partially roaded as a result of ongoing timber sales and past timber sales dating back to 1980. The Tonka marine access facility, and the associated road system, provides vehicle access to the project area.

Purpose and Need for Action

The purpose and need for the proposed action responds to the goals and objectives identified by the Tongass Land Management Plan, as amended, and helps move the area toward the desired conditions as described in the Forest Plan. The Forest Supervisor is the Responsible Official for this action and will decide whether or not to harvest timber from the Tonka Timber Sale project area, and if so, how this timber will be harvested. The decision will be based on the information that is disclosed in the environmental impact statement. The responsible official will consider comments, responses, the disclosure of environmental consequences, and applicable laws, regulations, and policies in making the decision and will state that rationale in the Record of Decision.

The purpose of the Tonka Timber Sale Project is to:

• Manage the timber resource for production of sawtimber and other wood products from suitable lands made available for timber harvest on an even flow, long-term sustained yield basis, and in an economically efficient manner.

• Seek to provide a timber supply sufficient to meet the annual market demand for Tongass National Forest timber and the market demand for the planning cycle.

Proposed Action: The Tonka Timber Sale Project proposes harvest of approximately 60 million board feet (mmbf) of timber from approximately 3,500 acres of forested land. An estimated 11 miles of new road would be necessary for this timber harvest. This proposal includes further study and development of the marine access facilitie (MAF). The existing MAF located along the eastern shore of Lindenberg Peninsula, in the Wrangell Narrows, would be used to transfer logs into the water or onto barges for transport to a mill. Actions associated with this development of the MAE includes clearing five additional acres in close proximity to the Tonka MAF to accommodate log sorting, scaling and service equipment, and modifying the approach and turn-around that equipment uses to access the water or barges. Management activities will adhere to Forest Plan Standards and Guidelines and best management practices will be applied. Alternatives to the proposed action, including a “no action” alternative, will be developed for the Draft Environmental Impact Statement. Subsistence hearings, as provided for in Title VIII, Section 810 of the Alaska National Interest Lands Conservation Act (ANILCA), will be conducted, if necessary, during the comment period on the Draft Environmental Impact Statement.

Public Participation: This project was placed on the 2007 Schedule of Proposed Actions. This notice of intent initiates the scoping process which guides the development of the environmental impact statement. Public participation has been an integral component of the study process and will continue to be especially important at several points during the analysis. The Forest Service will be seeking information, comments, and assistance from Tribal Governments and corporations, Federal, State, and local agencies, individuals and organizations that may be interested in, or affected by, the proposed activities. The mailing list will include: those who have requested to be on this project mailing list, or any timber harvest projects mailing list; those people who reside within the project area; outfitters/guides who have permits within or adjacent to the area; and local, state, federally-recognized tribal governments, and federal government agencies. The Tonka project was presented to the public at two Petersburg Ranger District Open-houses; one held on May, 5 2008 in Petersbrurg, Alaska, and one held in Kake, Alaska on July 7, 2008. Public input on the project was received through written comments.

The scoping package will be available at future Petersburg Ranger District open houses. The scoping process includes: (1) Identification of potential issues; (2) identification of issues to be analyzed in depth; and (3) elimination of non-significant issues or those which have been covered by a previous environmental review.

Tentative Issues: Tentative issues identified for analysis in the EIS include the potential effects of the project on and the relationship of the project to: Deer habitat/deer subsistence use, timber supply and timber sale economics, and scenery. Based on results of scoping and the interdisciplinary development of significant issues, alternatives, including a “no action” alternative, will be developed for the Draft Environmental Impact.

Early Notice of Importance of Public Participation in Subsequent Environmental Review: A Draft Environmental Impact Statement will be prepared for comment. The comment period on the Draft Environmental Impact Statement will be 45 days from the date the Environmental Protection Agency published the notice of availability in the Federal Register. It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review. Comments received in response to this solicitation, including names and addresses of those who comment, will be part of the public record for this proposed action. Comments submitted anonymously will be accepted and considered; however, anonymous comments will not provide the respondent with standing to participate in subsequent administrative review or judicial review. To assist the Forest Service in identifying and considering issues and concerns of the proposed action, comments during scoping and comments on the Draft Environmental Impact Statement should be as specific as possible. It is also helpful if comments refer to specific pages or chapters of the Draft Environmental Impact Statement. Comments may also address the adequacy of the Draft Environmental Impact Statement or the merits of the alternatives formulated and discussed in the statement. Reviewers may wish to refer to the Council on Environmental Quality Regulations for implementing the procedural provisions of the National Environmental Policy Act at 40 CFR 1503.3 in addressing these points. Comments received in response to this solicitation, including names and addresses of those who comment, will be considered part of the public record on this proposed action and will be available for public inspection.

(Authority: 40 CFR 1501.7 and 1508.22; Forest Service Handbook 1909.15, Section 21)

Comments submitted anonymously will be accepted and considered; however, those who submit anonymous comments will not have standing to appeal the subsequent decision under 36 CFR Parts 215 or 217. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within 7 days.

Permits: Permits required for implementation include the following:

1. U.S. Army Corps of Engineers

—Approval of discharge of dredged or fill material into the waters of the United States under Section 404 of the Clean Water Act;

—Approval of the construction of structures or work in navigable waters of the United States under Section 10 of the Rivers and Harbors Act of 1899.

2. Environmental Protection Agency

—General National Pollutant Discharge Elimination System Permit for Log Transfer Facilities in Alaska;

—Review Spill Prevention Control and Countermeasure Plan.

3. State of Alaska, Department of Natural Resources

—Tideland Permit and Lease or Easement;

—Certification of Compliance with Alaska Water Quality Standards (401 Certification) Chapter 20.

4. Office of Project Management & Permitting (DNR)

—Coastal Zone Consistency Determination concurrence.

5. State of Alaska, Department of Environmental Conservation

—Solid Waste Disposal Permit.

Responsible Official: Forrest Cole, Forest Supervisor, Tongass National Forest, Federal Building, Ketchikan, Alaska 99901.

Nature of Decision To Be Made: The Forest Supervisor is the Responsible Official for this action and will decide whether or not to harvest timber from the Tonka Timber Sale Project project area, and if so, the amount, location and method how this timber will be harvested. The decision will be based on the information that is disclosed in the environmental impact statement. The responsible official will consider comments, responses, the disclosure of environmental consequences, and applicable laws, regulations, and policies in making the decision and will state that rationale in the Record of Decision.

(Authority: 40 CFR 1501.7 and 1508.22; Forest Service Handbook 1909.15, Section 21)

Dated: February 17, 2009.
Forrest Cole,
Forest Supervisor.

[FR Doc. E9-3878 Filed 2-24-09; 8:45 am]

BILLING CODE 3410-11-M